DEPARTMENT OF THE INTERIOR

National Park Service

[NPS-WASO-NRNHL-DTS#-34350; PPWOCRADI0, PCU00RP14.R50000]

National Register of Historic Places; Notification of Pending Nominations and Related Actions

AGENCY: National Park Service, Interior.

ACTION: Notice.

SUMMARY: The National Park Service is soliciting electronic comments on the significance of properties nominated before August 6, 2022, for listing or related actions in the National Register of Historic Places.

DATES: Comments should be submitted electronically by September 1, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 6, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

ARKANSAS

Greene County

Standard Oil Company Oil Station Garage Building, (Truscon Buildings in Arkansas, c.1915-1937 MPS), 202 West Vine St., Paragould, MP100008154

Independence County

Dry Run Bridge, (New Deal Recovery Efforts in Arkansas MPS), AR 106 over Dry Run, Bethesda vicinity, MP100008153

Mississippi County

Jonesboro, Lake City & Eastern Railroad Steam Locomotive #34 and Associated, Rolling Stock, Southwest of jct. of AR 158 and Park Ave., Victoria, SG100008168

Ouachita County

Standard Oil Company Oil Station Pumphouse, (Truscon Buildings in Arkansas, c.1915-1937 MPS), 505 East Washington St., Camden, MP100008150

Camden Commercial Historic District, Roughly Washington St. between Harrison and Madison Sts., and Adams Ave. between Washington and Jefferson Sts., Camden, SG100008151

Pulaski County

Burns Park Golf Center, 28 Championship Dr., North Little Rock, SG100008148

White County

Carmichael, Leslie and Anamiece, House, 712 Randall Dr., Searcy, SG100008145

Department of Labor Employment Security Division Office, 501 West Arch Ave., Searcy, SG100008146

DISTRICT OF COLUMBIA

District of Columbia

Founding Church of Scientology, Washington, DC, 1812 19th St. NW, Washington, SG100008142

IDAHO

Ada County

South Municipal Pool, 921 South Shoshone St., Boise, SG100008162

Lowell Municipal Pool, 1601 North 28th St., Boise, SG100008169

MAINE

Cumberland County, Orr's Island Meeting House, 1579 Harpswell Islands Rd., Orr's Island, Harpswell, SG100008122

Waldo County

Pilley House, 11 Moosehead Trail, Brooks, SG100008124

MICHIGAN

Wayne County

Sojourner Truth Homes, (The Civil Rights Movement and the African American Experience in 20th Century Detroit MPS), 4525 and 4801 East Nevada St., Detroit, MP100008140

MISSISSIPPI

Hinds County

Upper Midtown Historic District (Boundary Increase), Roughly bounded by Duncan Ave., North West, Livingston, & North Mill Sts., Jackson, BC100008164

Griffith Memorial Baptist Church, 519 West Silas Brown St., Jackson, SG100008165

East Midtown Historic District, Roughly bounded by Adelle, North West, Nearview, and Blair Sts., Jackson, SG100008166

Jones County

Bynum-Anderson House, 701 Holly St., Ellisville, SG100008163

PENNSYLVANIA

Lawrence County

New Castle Hospital, 1000 South Mercer Street, New Castle, SG100008138

Lehigh County

Hokendauqua Thomas Iron Company Town Historic District, Roughly bounded by Front, Center, Carbon, Vine, and South Sts., Whitehall, SG100008170

Monroe County

Frantz School, (Educational Resources of Pennsylvania MPS), 485 Church Rd., Kunkletown, MP100008137

Shrawder-Sittig House, 553 River Rd., Smithfield Township, SG100008144

TEXAS

El Paso County

Colmenero, Damacio, Site, (Historic Properties of Ysleta del Sur Pueblo, El Paso County, Texas MPS), 151 Irma Rd., El Paso, MP100008126

Granillo, Trinidad, Site, (Historic Properties of Ysleta del Sur Pueblo, El Paso County, Texas MPS), 139 Palla Pl., El Paso, MP100008127

House at 124 North Old Pueblo Road, (Historic Properties of Ysleta del Sur Pueblo, El Paso County, Texas MPS), 124 North Old Pueblo Rd., El Paso, MP100008128

Ysleta del Sur Pueblo Tuhla District, (Historic Properties of Ysleta del Sur Pueblo, El Paso County, Texas MPS), 117 Juno Pl., El Paso, MP100008129

Salida de los Santos Site, (Historic Properties of Ysleta del Sur Pueblo, El Paso County, Texas MPS), 8817 Old Country Dr., El Paso, MP100008130

Pakitu (Pumpkin Village) Housing District, (Historic Properties of Ysleta del Sur Pueblo, El Paso County, Texas MPS), Roughly bounded by Socorro Rd., US-Mexico border, agricultural fields, and Bernardo Holguin St., El Paso, MP100008131

Ysleta del Sur Pueblo Iye-Kitu (Corn Village) Housing District, (Historic Properties of Ysleta del Sur Pueblo, El Paso County, Texas MPS), 200-333, 9303 Alton Griffon St., 9301-9425 Juanchido Ln., 9300-9392 Nakitu Dr., 291-341 Granillo St., El Paso, MP100008132

Ysleta del Sur Pueblo Hueco Mountain Property, (Historic Properties of Ysleta del Sur Pueblo, El Paso County, Texas MPS), Hueco Tanks Rd., approx. 5 mi. north of US 62/180, El Paso, MP100008133

Lubbock County

In Town Inn, 1212 Main St., Lubbock, SG100008171

VIRGINIA

Nelson County

Ryan Hall Elementary School, 71 Braddock Ln., Shipman, SG100008135

Winchester Independent City, Virginia Apple Storage Warehouse, 1955 Valley Ave., Winchester, SG100008136

York County

Oak Grove Baptist Church Historic District, 529 Waller Mill Rd., Airport Rd., Rochambeau Ave., Williamsburg vicinity, SG100008134

WISCONSIN

Dane County

Kohl's Food Store, 4207 Monona Dr., Monona, SG100008139

An owner objection received for the following resource:

ARKANSAS

Desha County

McGehee Bank, 301 West 2nd St, McGehee, SG100008156

A request for removal has been made for the following resources:

ARKANSAS

Chicot County

Chicot County Training School, Jct. of Hazel and North School Sts., Dermott, OT04000490

Clark County

McNeely Creek Bridge, (Historic Bridges of Arkansas MPS), Cty. Rd. 12, Beirne, OT04000495

Craighead County

Home Ice Company, 700 Cate Ave., Jonesboro, OT100001005

Cross County

Deadrick, Capt. Isaac N., House, Northwest of jct. of US 64 and AR 163, Levesque, OT93000964

Fulton County

AR 289 Bridge Over English Creek, (Historic Bridges of Arkansas MPS), AR 289 over English Cr., Mammoth Spring vicinity, OT08001338

Miller County

Foulke, Claude, House, 501 Pecan St., Texarkana, OT82002125

Pulaski County

Amboy Overpass, (Historic Bridges of Arkansas MPS), AR 365 over Union-Pacific RR tracks, north of jct. of AR 365 and AR 176, North Little Rock, OT95000608

MICHIGAN

Kent County

Grand Rapids Cycle Company Factory, 514 Butterworth St. SW, Grand Rapids, OT04000600

Wayne County

Tiger Stadium, 2121 Trumbull Ave., Detroit, OT88003236

A request to move has been received for the following resource:

ARKANSAS

Columbia County

Mt. Prospect Methodist Church, Jct. of Cty. Rds. 446 and 61, Richland, MV90000428

Additional documentation has been received for the following resources:

MAINE

Cumberland County

Mechanics' Hall (Additional Documentation), 519 Congress St., Portland, AD73000118

Sagadahoc County

Bath Historic District (Additional Documentation), Roughly bounded by Beacon St., the Kennebec R., Vine and Court Sts., and a line parallel to the Kennebec R., Bath, AD73000261

Nominations submitted by Federal Preservation Officers:

The State Historic Preservation Officer reviewed the following nomination(s) and responded to the Federal Preservation Officer within 45 days of receipt of the nomination(s) and supports listing the properties in the National Register of Historic Places.

FLORIDA

Alachua County

Federal Building, United States Post Office, and Court House, 401 SE 1st Ave., Gainesville, SG100008118

Hillsborough County

Federal Office Building, 500 East Zack St., Tampa, SG100008119

Marion County

Federal Building, United States Post Office, and Court House, 207 NW 2nd St., Ocala, SG100008120

MONTANA

Rosebud County

Poker Jim Butte Fire Lookout, FS Rd. 4801, Ashland vicinity, SG100008167

Authority: Section 60.13 of 36 CFR part 60.

Dated: August 9, 2022.
Sherry A. Frear,
Chief, National Register of Historic Places/National Historic Landmarks Program.

[FR Doc. 2022-17649 Filed 8-16-22; 8:45 am]

BILLING CODE 4312-52-P